TENNESSEE VALLEY AUTHORITY

[Meeting No. 06-05]

Sunshine Act Meeting

Time and Date: 10 a.m., September 29, 2006. Walker County Civic Center, 10052 North Highway 27, Rock Spring, Georgia 30739.

Status: Open.

Agenda

Old Business

Approval of minutes of July 28, 2006, Board Meeting.

New Business

1. President's Report.

2. Report of the Finance, Strategy, and Rates Committee.

A. Power supply arrangements with Bristol, Virginia.

B. Extension of power supply arrangements with Warren Rural Electric Cooperative Corporation.

C. Termination of Limited Interruptible Power (LIP) and Limited Firm Power (LFP) Programs.

3. Report of the Operations, Environment, and Safety Committee.

A. Contract with Stone and Webster Construction, Inc., for supplemental maintenance and modifications for TVA nuclear operating units and for Browns Ferry Nuclear Plant Unit 1 recovery.

B. Revisions to the approval of the contract with Louisiana Energy Services, L.P., for uranium enrichment services for Sequoyah and Watts Bar Nuclear Plants Units 1.

4. Report of the Audit and Ethics Committee.

5. Report of the Community Relations Committee.

6. Report of the Human Resources Committee.

A. TVA's contribution to the TVA Retirement System.

B. Delegation of authority to the Chief Executive Officer to approve trustees, Retirement System investment managers and their agreements, and retirement plan amendments which do not increase plan liabilities or have a direct cost impact on TVA.

C. Renewal and extension of interim human resource and labor relations delegations until December 31, 2006.

D. Award of contract to Medco to administer TVA's prescription drug plan for employees and retirees.

E. FY 2007 Corporate Scorecard.

F. Other.

7. Report of the Corporate Governance Committee.

8. Approval of Committee charters.

9. Information item approved by the Board previously.

A. Selection of William Stanley Orser as Interim Chief Operating Officer.

FOR FURTHER INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: September 22, 2006.
Maureen H. Dunn,
General Counsel and Secretary.

[FR Doc. 06-8335 Filed 9-25-06; 12:58 pm]

BILLING CODE 8120-08-P